DEPARTMENT OF LABOR

Occupational Safety and Health Administration

[Docket No. OSHA-2013-0012]

Modification to the List of Appropriate NRTL Program Test Standards and the Scope of Recognition of Several NRTLs

AGENCY: Occupational Safety and Health Administration (OSHA), Labor.

ACTION: Notice.

SUMMARY: In this notice, OSHA announces the final decision to: (1) Add seven new test standards to the Nationally Recognized Testing Laboratories (NRTL) Program's list of appropriate test standards; (2) delete or replace several test standards from the NRTL Program's list of appropriate test standards; and (3) update the scope of recognition of several NRTLs.

DATES: The actions contained in this notice will become effective on November 3, 2021.

FOR FURTHER INFORMATION CONTACT: Information regarding this notice is available from the following sources:

Press inquiries: Contact Mr. Frank Meilinger, Director, OSHA Office of Communications; telephone: (202) 693-1999; email: meilinger.francis2@dol.gov.

General and technical information: Contact Mr. Kevin Robinson, Director, Office of Technical Programs and Coordination Activities, Directorate of Technical Support and Emergency Management, Occupational Safety and Health Administration; telephone: (202) 693-2110 or email: robinson.kevin@dol.gov. OSHA's web page includes information about the NRTL Program (see http://www.osha.gov/dts/otpca/nrtl/index.html).

SUPPLEMENTARY INFORMATION:

I. Background

The NRTL Program recognizes organizations that provide product-safety testing and certification services to manufacturers. These organizations perform testing and certification for purposes of the program, to U.S. consensus-based product-safety test standards. The products covered by the NRTL Program consist of those items for which OSHA safety standards require “certification” by a NRTL. The requirements affect electrical products and 38 other types of products. OSHA does not develop or issue these test standards, but generally relies on standards development organizations (SDOs), which develop and maintain the standards using a method that provides input and consideration of views of industry groups, experts, users, consumers, governmental authorities and others having broad experience in the safety field involved.

A. Addition of New Test Standards to the NRTL List of Appropriate Test Standards

Periodically, OSHA will add new test standards to the NRTL list of appropriate test standards following an evaluation of the test standard document. To qualify as an appropriate test standard, the agency evaluates the document to (1) verify it represents a product category for which OSHA requires certification by a NRTL, (2) verify the document represents an end product and not a component, and (3) verify the document defines safety test specifications (not installation or operational performance specifications). OSHA becomes aware of new test standards through various avenues. For example, OSHA may become aware of new test standards by: (1) Monitoring notifications issued by certain SDOs; (2) reviewing applications by NRTLs or applicants seeking recognition to include a new test standard in their scope of recognition; and (3) obtaining notification from manufacturers, manufacturing organizations, government agencies, or other parties that a new test standard may be appropriate to add to the list of appropriate standards. OSHA may determine to include a new test standard in the list, for example, if the test standard is for a particular type of product that another test standard also covers, addresses a type of product that no standard previously covered, or is otherwise new to the NRTL Program.

B. SDO Deletion and Replacement of Test Standards

The NRTL Program regulations require that appropriate test standards be maintained and current (29 CFR 1910.7(c)). A test standard withdrawn by a standards development organization is no longer considered an appropriate test standard (CPL 01-00-004, NRTL Program Policies, Procedures and Guidelines Directive, Chapter 2, IX). It is OSHA's policy to remove recognition of withdrawn test standards by issuing a correction notice in the Federal Register for all NRTLs recognized for the withdrawn test standards. However, SDOs frequently will designate a replacement standard for withdrawn standards. OSHA will recognize a NRTL for an appropriate replacement test standard if the NRTL has the requisite testing and evaluation capability for the replacement test standard.

One method that NRTLs may use to show such capability involves an analysis to determine whether any testing and evaluation requirements of existing test standards in a NRTL's scope are comparable (i.e., are completely or substantially identical) to the requirements in the replacement test standard. If OSHA's analysis shows the replacement test standard does not require additional or different technical capability than an existing test standard(s), and the replacement test standard is comparable to the existing test standard(s), then OSHA can add the replacement test standard to affected NRTLs' scope of recognition. If OSHA's analysis shows the replacement test standard requires an additional or different technical capability, or the replacement test standard is not comparable to any existing test standards, each affected NRTL seeking to have OSHA add the replacement test standard to the NRTL's scope of recognition must provide information to OSHA that demonstrates technical capability.

C. Other Reasons for Removal of Test Standards From the NRTL List of Appropriate Test Standards

OSHA may choose to remove a test standard from the NRTL Program's List of Appropriate Test Standards based on an internal review in which NRTL Program staff review the NRTL Program's List of Appropriate Test Standards to determine if the test standards conform to the definition of an appropriate test standard defined in NRTL Program regulations and policy. There are several reasons for removing a test standard based on this review. First, a document that provides the methodology for a single test is a test method rather than an appropriate test standard (29 CFR 1910.7(c)). As stated above, a test standard must specify the safety requirements for a specific type of product(s). A test method, however, is a specified technical procedure for performing a test. As such, a test method is not an appropriate test standard. While a NRTL may use a test method to determine if certain safety requirements are met, a test method is not itself a safety requirement for a specific product category.

Second, a document that focuses primarily on usage, installation, or maintenance requirements would also not be considered an appropriate test standard (NRTL Program Policies, Procedures and Guidelines Directive, CPL-01-00-004, Chapter 2, Section VIII, B). In some cases, however, a document may also provide safety test specifications in addition to usage, installation, and maintenance requirements. In such cases, the document would be retained as an appropriate test standard based on the safety test specifications.

Finally, a document may not be considered an appropriate test standard if the document covers products for which OSHA does not require testing and certification (NRTL Program Policies, Procedures and Guidelines Directive, CPL-01-00-004, Chapter 2, Section VIII, B). Similarly, a document that covers electrical product components would not be considered an appropriate test standard. These documents apply to types of components that have limitation(s) or condition(s) on their use, which are not appropriate for use as end-use products. These documents also specify that these types of components are for use only as part of an end-use product. NRTLs, however, evaluate such components only in the context of evaluating whether end-use products requiring NRTL approval are safe for use in the workplace. Testing such components alone would not indicate that the end-use products containing the components are safe for use. Accordingly, as a matter of policy, OSHA considers that documents covering such components are not appropriate test standards under the NRTL Program. OSHA notes, however, that it is not deleting from NRTLs' scope of recognition any test standards covering end-use products that contain such components.

In addition, OSHA notes that, to conform to a test standard covering an end-use product, a NRTL must still determine that the components in the product comply with the components' specific test standards. In making this determination, NRTLs may test the components themselves, or accept the testing of a qualified testing organization that a given component conforms to the particular test standard. OSHA reviews each NRTL's procedures to determine which approach the NRTL will use to address components, and reviews the end-use product testing to verify the NRTL appropriately addresses that product's components.

D. Modification to the List of Appropriate NRTL Program Test Standards and the Scope of Recognition of Several NRTLs

OSHA published a Federal Register notice announcing the proposal to modify the NRTL Program's List of Appropriate Test Standards and the Scope of Recognition for Several NRTLs on August 16, 2021 (86 FR 45755). OSHA requested comments by August 31, 2021. However, OSHA received no comments in response to this notice. OSHA is now proceeding with this final notice to update the NRTL Program's List of Appropriate Test Standards and the Scope of Recognition for Several NRTLs.

In this notice, OSHA announces the final decision to remove certain test standards (i.e., those listed in Table 2, below) from the scope of recognition of several NRTLs and to add to the scope of recognition of some of these NRTLs a replacement test standard, as applicable (Table 1). The tables in this section (Table 3 through Table 7) list, for each affected NRTL, the test standard(s) that OSHA is removing from the scope of recognition of the NRTL, along with the replacement test standard (as applicable).

II. Final Decision To Add New Test Standards to the NRTL Program's List of Appropriate Test Standards

In this notice, OSHA announces the final decision to add seven test standards to the NRTL Program's list of appropriate test standards. The standards OSHA is adding to the NRTL Program's list of appropriate test standards are indicated below in Table 1:

Table 1—Test Standards OSHA Is Adding to the NRTL Program's List of Appropriate Test Standards
Test standard to be added | Test standard title
UL 970 | Standard for Retail Fixtures and Merchandise Displays.
UL 62841-2-17 | Electric Motor-Operated Hand-Held Tools, Transportable Tools and Lawn and Garden Machinery—Safety—Part 2-17: Particular Requirements for Hand-Held Routers.
UL 62841-4-1 | Electric Motor-Operated Hand-Held Tools, Transportable Tools and Lawn And Garden Machinery—Safety—Part 4-1: Particular Requirements for Chain Saws.
UL 62841-4-2 | Standard for Electric Motor-Operated Hand-Held Tools, Transportable Tools and Lawn And Garden Machinery—Safety—Part 4-2: Particular Requirements for Hedge Trimmers.
CSA/ANSI C22.2 No. 336 | Particular requirements for rechargeable battery-operated commercial robotic floor treatment machines with traction drives.
UL 61730-1 | Standard for Photovoltaic (PV) Module Safety Qualification—Part 1: Requirements for Construction.
UL 61730-2 | Photovoltaic (PV) Module Safety Qualification—Part 2: Requirements for Testing.

III. Final Decision To Remove Test Standards From the NRTL Program's List of Appropriate Test Standards

In this notice, OSHA announces the final decision to delete eight withdrawn and deleted test standards from the NRTL Program's List of Appropriate Test Standards. OSHA also incorporates into the NRTL Program's List of Appropriate Test Standards a replacement test standard for one of the withdrawn and deleted test standards (UL 61010A-2-042) as indicated below in Table 2:

Table 2—Test Standards OSHA Is Removing From the NRTL Program's List of Appropriate Test Standards
Deleted test standard | Test standard title | Reason for deletion | Replacement standard(s)
UL 2231-1 | Personnel Protection Systems for Electric Vehicle (EV) Supply Circuits: General Requirements | Standard is component standard and not an end-product standard. It does not meet the requirements of the NRTL Program | None.
UL 2231-2 | Personnel Protection Systems for Electric Vehicle (EV) Supply Circuits: Particular Requirements for Protection Devices for Use in Charging Systems | Standard is component standard and not an end-product standard. It does not meet the requirements of the NRTL Program | None.
UL 224 | Extruded Insulating Tubing | Standard is component standard and not an end-product standard. It does not meet the requirements of the NRTL Program | None.
UL 969 | Marking and Labeling Systems | Standard is component standard and not an end-product standard. It does not meet the requirements of the NRTL Program | None.
UL 1332 | Organic Coatings for Steel Enclosures for Outdoor Use Electrical Equipment | Standard is component standard and not an end-product standard. It does not meet the requirements of the NRTL Program | None.
UL 1441 | Coated Electrical Sleeving | Standard is component standard and not an end-product standard. It does not meet the requirements of the NRTL Program | None.
UL 1446 | Systems of Insulating Materials-General | Standard is component standard and not an end-product standard. It does not meet the requirements of the NRTL Program | None.
UL 61010A-2-042 | Electrical Equipment for Laboratory Use; Part 2: Particular Requirements for Autoclaves and Sterilizers Using Toxic Gas for the Treatment of Medical Materials, and for Laboratory Processes | Withdrawn and replaced | UL 61010-1 (no direct replacement for UL 61010A-2-042).

IV. Final Decision To Modify Affected NRTLs' Scopes of Recognition

In this notice, OSHA also announces the final decision to update the scopes of recognition of several NRTLs. The tables in this section (Table 3 through Table 7) list, for each affected NRTL, the test standard(s) that OSHA will delete from the scope of recognition and, when applicable, the test standard that OSHA will incorporate into the scope of recognition to replace one of the withdrawn (and deleted) test standards.

Table 3—Test Standards OSHA Is Removing From/Adding to the Scope of Recognition of CSA Group Testing & Certification Inc.
Test standard to be removed | Reason for removal | Replacement test standard(s) (if applicable)
UL 224 | Standard is component standard and not an end-product standard. It does not meet the requirements of the NRTL Program | None.
UL 969 | Standard is component standard and not an end-product standard. It does not meet the requirements of the NRTL Program | None.
UL 1441 | Standard is component standard and not an end-product standard. It does not meet the requirements of the NRTL Program | None.
UL 1446 | Standard is component standard and not an end-product standard. It does not meet the requirements of the NRTL Program | None.
UL 61010A-2-042 | Withdrawn and replaced | UL 61010-1 (no direct replacement).

Table 4—Test Standards OSHA Is Removing From/Adding to the Scope of Recognition of Intertek Testing Services NA, Inc.
Test standard to be removed | Reason for removal | Replacement test standard(s) (if applicable)
UL 224 | Standard is component standard and not an end-product standard. It does not meet the requirements of the NRTL Program | None.
UL 969 | Standard is component standard and not an end-product standard. It does not meet the requirements of the NRTL Program | None.
UL 1441 | Standard is component standard and not an end-product standard. It does not meet the requirements of the NRTL Program | None.
UL 1446 | Standard is component standard and not an end-product standard. It does not meet the requirements of the NRTL Program | None.
UL 61010A-2-042 | Withdrawn and replaced | UL 61010-1 (no direct replacement).

Table 5—Test Standard OSHA Is Removing From the Scope of Recognition of TUV Rheinland of North America, Inc.
Test standard to be removed | Reason for removal | Replacement test standard(s) (if applicable)
UL 224 | Standard is component standard and not an end-product standard. It does not meet the requirements of the NRTL Program | None.

Table 6—Test Standard OSHA Is Removing From the Scope of Recognition of TUV SUD America, Inc.
Test standard to be removed | Reason for removal | Replacement test standard(s) (if applicable)
UL 969 | Standard is component standard and not an end-product standard. It does not meet the requirements of the NRTL Program | None.

Table 7—Test Standards OSHA Is Removing From/Adding to the Scope of Recognition of UL LLC
Test standard to be removed | Reason for removal | Replacement test standard(s) (if applicable)
UL 2231-1 | Standard is component standard and not an end-product standard. It does not meet the requirements of the NRTL Program | None.
UL 2231-2 | Standard is component standard and not an end-product standard. It does not meet the requirements of the NRTL Program | None.
UL 224 | Standard is component standard and not an end-product standard. It does not meet the requirements of the NRTL Program | None.
UL 969 | Standard is component standard and not an end-product standard. It does not meet the requirements of the NRTL Program | None.
UL 1332 | Standard is component standard and not an end-product standard. It does not meet the requirements of the NRTL Program | None.
UL 1441 | Standard is component standard and not an end-product standard. It does not meet the requirements of the NRTL Program | None.
UL 1446 | Standard is component standard and not an end-product standard. It does not meet the requirements of the NRTL Program | None.
UL 61010A-2-042 | Withdrawn and replaced | UL 61010-1 (no direct replacement).

OSHA will place on its informational web pages the modifications to each NRTL's scope of recognition. These web pages detail the scope of recognition for each NRTL, including the test standards the NRTL may use to test and certify products under OSHA's NRTL Program. OSHA also will add to the list of “Appropriate Test Standards” web page, those test standards added to the NRTL Program's List of Appropriate Test Standards. The agency will add to the “Standards No Longer Recognized” web page those test standards that OSHA no longer recognizes or permits under the NRTL Program. Access to these web pages is available at http://www.osha.gov/dts/otpca/nrtl/index.html.

V. Authority and Signature

James S. Frederick, Acting Assistant Secretary of Labor for Occupational Safety and Health, authorized the preparation of this notice. Accordingly, the agency is issuing this notice pursuant to 29 U.S.C. 657(g)(2)), Secretary of Labor's Order No. 8-2020 (85 FR 58393, September 18, 2020), and 29 CFR 1910.7.

Signed at Washington, DC, on September 27, 2021.
James S. Frederick,
Acting Assistant Secretary of Labor for Occupational Safety and Health.

[FR Doc. 2021-23893 Filed 11-2-21; 8:45 am]

BILLING CODE 4510-26-P